DEPARTMENT OF HEALTH AND HUMAN SERVICES

National Institutes of Health

Government-Owned Inventions; Availability for Licensing

AGENCY: National Institutes of Health, HHS.

ACTION: Notice.

SUMMARY: The invention listed below is jointly owned by an agency of the U.S. Government with Pontificia Universidad Catolica de Chile and is available for licensing to achieve expeditious commercialization of results of federally-funded research and development. Foreign patent applications are filed on selected inventions to extend market coverage for companies and may also be available for licensing.

FOR FURTHER INFORMATION CONTACT: Licensing information and copies of the U.S. patent application listed below may be obtained by communicating with Ami Gadhia, JD, LL.M., CLP, Technology Transfer and Patenting Specialist, National Center for Advancing Translational Sciences, NIH, 9800 Medical Center Drive, Rockville, MD 20850, Phone: 301-217-6098, or email ami.gadhia@nih.gov. A signed Confidential Disclosure Agreement will be required to receive copies of unpublished patent applications.

SUPPLEMENTARY INFORMATION: Technology description follows.

c-Abl Tyrosine Kinase Inhibitory Compounds and Methods of Manufacture and Use

Description of Technology

The invention includes compounds that inhibit c-Abl tyrosine kinase, and methods of making them which include administering (i) a therapeutically effective amount of the compound or a stereoisomer, tautomer, pharmaceutically acceptable salt, solvate, or prodrug thereof; or (ii) a therapeutically effective amount of the pharmaceutical compositions to a patient with the disease which involves c-Abl tyrosine kinase, including the overexpression of it. In some embodiments, the compound inhibits c-Abl tyrosine kinase by binding to an allosteric site of the c-Abl tyrosine kinase. In some embodiments, the compound binds to a myristate pocket of the c-Abl tyrosine kinase.

This technology is available for licensing for commercial development in accordance with 35 U.S.C. 209 and 37 CFR part 404, as well as for further development and evaluation under a research collaboration.

Potential Commercial Applications

• Novel therapeutics for neurodegenerative diseases AND other indications which involve c-Abl kinase (e.g., lysosomal storage disorders, cancers, etc.).

Competitive Advantages

• Novel compounds that have a commercial advantage over those currently known because they are able to selectively bind to c-Abl at an allosteric site, can cross the blood-brain barrier, and show robust efficacy in several neurodegenerative models. All of this allows them to potentially treat neurodegenerative diseases, cancer etc.

Development Stage

• Pre-Clinical (in vivo validation).

Inventors

• Juan Marugan, Marc Ferrer, Noel Southall, Andres Dulcey, Xin Hu, Christopher Dextras, Daniel Talley, Alejandra Alvarez, Silvana Zanlungo.

Intellectual Property: 1. C-ABL TYROSINE KINASE INHIBITORY COMPOUND EMBODIMENTS AND METHODS OF MAKING AND USING THE SAME” U.S. Provisional Patent Application NO. 62/641,126 filed on March 9, 2018 (HHS Ref. No. E-252-2017).

Licensing Contact: Ami Gadhia, JD, LL.M., CLP, 301-217-6098; ami.gadhia@nih.gov.

Dated: September 25, 2018.
Lillianne M. Portilla Weingarten,
Technology Development Coordinator, National Center for Advancing Translational Sciences.

[FR Doc. 2018-23616 Filed 10-29-18; 8:45 am]

BILLING CODE 4140-01-P